DEPARTMENT OF THE INTERIOR

National Park Service

[NPS-NERO-CEBE-33025; PPNECEBE00, PPMPSAS1Z.Y00000]

Cedar Creek and Belle Grove National Historical Park Advisory Commission; Notice of Public Meetings

AGENCY: National Park Service, Interior.

ACTION: Meeting notice.

SUMMARY: In accordance with the Federal Advisory Committee Act of 1972, the National Park Service is hereby giving notice that the Cedar Creek and Belle Grove National Historical Park Advisory Commission (Commission) will meet as indicated below.

DATES: The Commission will meet via teleconference on Thursday, January 13, 2022; Thursday, March 17, 2022; Thursday, June 16, 2022; Thursday, September 15, 2022; and Thursday, December 15, 2022. All scheduled meetings will begin at 9:00 a.m. and end by 11:00 a.m. (EASTERN).

ADDRESSES: Information on joining the teleconference will be available on the Cedar Creek and Belle Grove National Park website at https://www.nps.gov/cebe/learn/management/park-advisory-commission.htm.

FOR FURTHER INFORMATION CONTACT: Karen Beck-Herzog, Site Manager, Cedar Creek and Belle Grove National Historical Park, P.O. Box 700, Middletown, Virginia 22645, telephone (540) 868-9176, or visit the park website: https://www.nps.gov/cebe/index.htm.

SUPPLEMENTARY INFORMATION: The Commission was designated by Congress to provide advice to the Secretary of the Interior on the preparation and implementation of the park's general management plan and to advise on land protection (16 U.S.C. 410iii-7). This meeting is open to the public. Individuals who are interested in the park, the implantation of the plan, or the business of the Commission are encouraged to attend the meeting. Interested persons may make oral presentations to the Commission. Such requests should be made to the Site Manager at the beginning of the meeting. Depending on the number of persons wishing to speak, and the time available, the time for individual comments may be limited. Written comments may be sent to Karen Beck-Herzog (see FOR FURTHER INFORMATION CONTACT). All comments received will be provided to the Committee. A detailed final agenda will be posted 48 hours in advance of the meeting on the Commission's website at https://www.nps.gov/cebe/learn/management/park-advisory-commission.htm. If a meeting date and location are changed, the Superintendent will issue a press release and use local newspapers and/or radio stations to announce the rescheduled meeting.

Purpose of the Meeting: The topics to be discussed include: General management plan next steps, visitor services and interpretation, land protection planning, historic preservation, and natural resource protection.

Commission meetings consist of the following:

1. General Introductions

2. Review and Approval of Commission Meeting Notes

3. Reports and Discussions

4. Old Business

5. New Business

6. Public Comments

7. Closing Remarks

Public Disclosure of Comments: Before including your address, phone number, email address, or other personal identifying information in your comment, you should be aware that your entire comment—including your personal identifying information—may be made publicly available at any time. While you can ask us in your comment to withhold your personal identifying information from public view, we cannot guarantee that we will be able to do so.

(Authority: 5 U.S.C. Appendix 2)

Alma Ripps,
Chief, Office of Policy.

[FR Doc. 2021-26616 Filed 12-8-21; 8:45 am]

BILLING CODE 4312-52-P